DEPARTMENT OF ENERGY

Federal Energy Regulatory Commission

[Docket No. RP97-13-009]

East Tennessee Natural Gas Company; Notice of Negotiated Rates

October 2, 2003.

Take notice that on September 30, 2003, East Tennessee Natural Gas Company (East Tennessee) tendered for filing a corrected Exhibit A for Carolina Power & Light Company Contract No. 410103.

East Tennessee states the various contracts and negotiated rate agreements were filed with the Commission on September 24, 2003 in Docket No. RP97-13-008. Footnote 16 to the transmittal letter for such filing noted that there was a typographical error on Exhibit A to the service agreement with Carolina Power & Light (Contract No. 410103), and that the parties were in the process of correcting the error. The parties have now corrected the error, and East Tennessee hereby files the corrected Exhibit A.

East Tennessee states that copies of the filing were mailed to all affected customers of East Tennessee and interested state commissions, and all parties on the service lists.

Any person desiring to be heard or to protest said filing should file a motion to intervene or a protest with the Federal Energy Regulatory Commission, 888 First Street, NE., Washington, D.C. 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “eLibrary”. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the “e-Filing” link.

Comment Date: October 14, 2003.

Magalie R. Salas,
Secretary.

[FR Doc. E3-00029 Filed 10-8-03; 8:45 am]

BILLING CODE 6717-01-P